DEPARTMENT OF TRANSPORTATION

Federal Aviation Administration

14 CFR Part 39

[Docket No. 99-CE-92-AD; Amendment 39-11533; AD 2000-02-15]

RIN 2120-AA64

Airworthiness Directives; Raytheon Aircraft Company Beech Models 65-90, 65-A90, B90, and C90 Airplanes

AGENCY: Federal Aviation Administration, DOT.

ACTION: Final rule; request for comments.

SUMMARY: This amendment adopts a new airworthiness directive (AD) that applies to Raytheon Aircraft Company (Raytheon) Beech Models 65-90, 65-A90, B90, and C90 airplanes that incorporate a certain engine and propeller configuration. This AD prohibits you from operating any affected airplane with this engine and propeller configuration and prohibits its future installation. Results of an accident investigation involving one of the affected airplanes reveals installation discrepancies with the engine and propeller configuration. These discrepancies, if not corrected, could lead to engine failure and the inability to feather the propeller. The actions specified by this AD are intended to prevent an uncontained engine failure due to suspect engine and propeller installation, which could result in loss of control of the airplane.

DATES: Effective February 18, 2000.

The FAA must receive any comments on this rule on or before March 17, 2000.

ADDRESSES: Submit comments in triplicate to the Federal Aviation Administration (FAA), Central Region, Office of the Regional Counsel, Attention: Rules Docket No. 99-CE-92-AD, 901 Locust, Room 506, Kansas City, Missouri 64106.

You may examine information related to this AD at the FAA at the address above.

FOR FURTHER INFORMATION CONTACT: Robert Bosak, Aerospace Engineer, FAA, Atlanta Aircraft Certification Office, One Crown Center, 1895 Phoenix Boulevard, Suite 450, Atlanta, Georgia 30349; telephone: (770) 703-6094; facsimile: (770) 703-6097.

SUPPLEMENTARY INFORMATION:

Discussion

What Events Have Caused This AD?

The FAA has received two reports of engine power turbine failures on Raytheon Beech Model 65-A90 airplanes. Each of these airplanes had the original Pratt & Whitney PT6A-20 turboprop engines replaced with Motorlet, Walter M601E-11 turboprop engines (with Avia-Hamilton Standard VJ8-510 propellers). Supplemental Type Certificate (STC) SA01366AT contains the approval and procedures for this replacement. One of the engine failures was uncontained and one resulted in engine seizure on the opposite engine.

Investigation of the incidents is ongoing; however, the FAA has identified several installation discrepancies. Among these are:

—The engine control electronic limiters (governors) were not installed. This system lowers the fuel delivery and, thus protects the engine against over-temperature at startup and overspeed at BETA control and reverse rating. This could result in engine failure due to overspeed and/or turbine over-temperature conditions;

—The required propeller de-icing system was not installed;

—The propeller feathering pump was not installed, which could prevent feathering of the propeller in the event of an engine seizure; and

—The cabin supercharger was not installed in a manner to assure proper pressurization of the aircraft.

What Are the Consequences If the Condition Is Not Corrected?

These discrepancies, if not corrected, could lead to engine failure and the inability to feather the propeller. This could result in an uncontained engine failure with consequent loss of control of the airplane.

The FAA's Determination and an Explanation of the Provisions of the AD

What Has the FAA Decided?

After examining the circumstances and reviewing all available information related to the incidents described above, including the relevant service information, the FAA has determined that:

—An unsafe condition exists or could develop on Raytheon Beech Models 65-90, 65-A90, B90, and C90 airplanes of the same type design (to the airplanes referenced above) that incorporate STC SA01366AT; and

—AD action should be taken in order to prevent an uncontained engine failure due to suspect engine and propeller installation, which could result in loss of control of the airplane.

What Does This AD Require?

This AD prohibits you from operating any affected airplane with STC SA01366AT incorporated and prohibits you from incorporating this STC in the future.

What Is the Compliance Time of This AD?

The compliance time of both the operations and installation prohibition is “as of the effective date of this AD.”

Will This Compliance Time Inadvertently Ground Airplanes?

No. The only 2 airplanes that currently incorporate the configuration of the affected STC were involved in the referenced incidents. The engines of these airplanes will be replaced in accordance with the original type certificate data sheet (TCDS) or other FAA-approved STC. Basically, this AD prevents future installation of the configuration specified in STC SA01366AT.

Will the Public Have the Opportunity to Comment Prior to the Issuance of the Rule?

No. Since a situation exists (possible uncontained engine failure) that requires the immediate adoption of this regulation, the FAA has determined that notice and opportunity for public prior comment hereon are impracticable, and that good cause exists for making this amendment effective in less than 30 days.

Comments Invited

Although this action is in the form of a final rule and was not preceded by notice and opportunity for public comment, the FAA invites comments on this rule. You may submit whatever written data, views, or arguments you choose. You need to include the rule's docket number and submit your comments in triplicate to the address specified under the caption ADDRESSES. The FAA will consider all comments received on or before the closing date. We may amend this rule in light of comments received. Factual information that supports your ideas and suggestions is extremely helpful in evaluating the effectiveness of the AD action and determining whether we need to take additional rulemaking action.

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

If you want us to acknowledge the receipt of your comments, you must include a self-addressed, stamped postcard. On the postcard, write “Comments to Docket No. 99-CE-92-AD.” We will date stamp and mail the postcard back to you.

Regulatory Impact

These regulations will not have a substantial direct effect on the States, on the relationship between the national Government and the States, or on the distribution of power and responsibilities among the various levels of government. Therefore, the FAA has determined that this final rule does not have federalism implications under Executive Order 13132.

The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2000-02-15 Raytheon Aircraft Company (Type Certificate 3A20 previously held by the Beech Aircraft Corporation): Amendment 39-11533; Docket No. 99-CE-92-AD.

(a) What airplanes are affected by this AD? Any Model 65-90, 65-A90, B90, and C90 airplane (all serial numbers) that:

(1) Has at least one Motorlet, Walter M601E-11 turboprop engine (with an Avia-Hamilton Standard VJ8-510 propeller) installed, in accordance with Supplemental Type Certificate (STC) SA01366AT; and

(2) Is certificated in any category.

(b) Who must comply with this AD? Anyone who wishes to operate any of the above airplanes on the U.S. Register.

(c) What problem does this AD address? The actions required by this AD will prevent engine failure and the inability to feather the propeller caused by discrepancies in the engine and propeller installation.

(d) What must I do to address this problem? To address this problem, you must accomplish the following actions:

(1) Do not operate any airplane that has a Motorlet, Walter M601E-11 turboprop engine (with an Avia-Hamilton Standard VJ8-510 propeller) installed, in accordance with STC SA01366AT.

(2) Do not install, on any affected airplane, any Motorlet, Walter M601E-11 turboprop engine (with an Avia-Hamilton Standard VJ8-510 propeller), in accordance with STC SA01366AT.

(e) What is the compliance time of all actions of this AD? As of the effective date of this AD.

(f) Can I comply with this AD in any other way? Yes.

(1) You may use an alternative method of compliance or adjust the compliance time if:

(i) Your alternative method of compliance provides an equivalent level of safety; and

(ii) The Manager, Atlanta Aircraft Certification Office (ACO), approves your alternative. Submit your request through an FAA Principal Maintenance Inspector, who may add comments and then send it to the Manager, Atlanta ACO.

(2) This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f)(1) of this AD. The request should include an assessment of the effect of the modification, alteration, or repair on the unsafe condition addressed by this AD; and, if you have not eliminated the unsafe condition, specific actions you propose to address it.

(g) Where can I get information about any already-approved alternative methods of compliance? Contact Robert Bosak, Aerospace Engineer, Atlanta Aircraft Certification Office, One Crown Center, 1895 Phoenix Boulevard, Suite 450, Atlanta, Georgia 30349; telephone: (770) 703-6094; facsimile: (770) 703-6097.

(h) What if I need to fly the airplane to another location to comply with this AD? The FAA has determined that the nature of the unsafe condition does not warrant the issuance of a special flight permit under sections 21.197 and 21.199 of the Federal Aviation Regulations (14 CFR 21.197 and 21.199) to operate your airplane to a location where you can accomplish the requirements of this AD. The only 2 airplanes that currently incorporate the configuration of the affected STC were involved in the referenced incidents. The engines of these airplanes will be replaced in accordance with the original type certificate data sheet (TCDS) or other FAA-approved STC. Basically, this AD prevents future installation of the configuration specified in STC SA01366AT.

(i) When does this amendment become effective? This amendment becomes effective on February 18, 2000.

Issued in Kansas City, Missouri, on January 20, 2000.
Michael Gallagher,
Manager, Small Airplane Directorate, Aircraft Certification Service.

[FR Doc. 00-2002 Filed 1-31-00; 8:45 am]

BILLING CODE 4910-13-U